DEPARTMENT OF HOMELAND SECURITY

Coast Guard

33 CFR Part 165

[Docket Number USCG-2024-0396]

RIN 1625-AA87

Safety Zone, Lake Erie, Mentor (Mentor Headlands), Ohio

AGENCY: Coast Guard, DHS.

ACTION: Temporary final rule.

SUMMARY: The Coast Guard is establishing a temporary safety zone for certain waters of Lake Erie off Mentor Headlands Beach State Park, Mentor, Ohio. This action is necessary to provide offshore safety for motion picture production activity on the Mentor Headlands Beach from June 17 through June 18, and June 20 through June 21, 2024. Entry of persons and vessels into this safety zone is prohibited unless authorized by the Captain of the Port Sector Eastern Great Lakes or a designated representative.

DATES: This rule is effective June 21, 2024, with rain dates from June 24 to June 28, 2024. For the purposes of enforcement, actual notice will be used from June 17, 2024, until June 21, 2024.

ADDRESSES: To view documents mentioned in this preamble as being available in the docket, go to https://www.regulations.gov, type USCG-2024-0396 in the search box and click “Search.” Next, in the Document Type column, select “Supporting & Related Material.”

FOR FURTHER INFORMATION CONTACT: If you have questions about this rule, contact Cody Mayrer with the U.S. Coast Guard Marine Safety Unit Cleveland's Waterways Management Division; via telephone at 216-937-0111, or by email at D09-SMB-MSUCLEVELAND-WWM@uscg.mil.

SUPPLEMENTARY INFORMATION:

I. Table of Abbreviations

CFR Code of Federal Regulations

COTP Captain of the Port Sector Eastern Great Lakes

DHS Department of Homeland Security

FR Federal Register

NPRM Notice of proposed rulemaking

§ Section

SNPRM Supplemental notice of proposed rulemaking

U.S.C. United States Code

II. Background Information and Regulatory History

On February 27, 2024, S&K Productions notified the U.S. Coast Guard that it will be filming a motion picture on the Mentor Headlands Beach State Park in Mentor, Ohio from June 17 through June 18, and from June 20 through June 21, 2024, with rain dates from June 24 through June 28, 2024. The Captain of the Port Sector Eastern Great Lakes (COTP) has determined that a safety zone covering certain navigable waters of Lake Erie is needed to protect life and property during the S&K Productions' filming of project “Genesis”.

In response, on May 9, 2024, the Coast Guard published a notice of proposed rulemaking (NPRM) titled Security Zone, Lake Erie, Mentor (Mentor Headlands), Ohio (89 FR 39576). There we stated why we issued the NPRM and invited comments on our proposed regulatory action related to the filming activities. During the comment period that ended June 10, 2024, we received one comment.

After the comment period ended, certain changes needed to be made to ensure the safety of life and property during the filming activities, namely, the Coast Guard found it necessary to redesignate this regulated area as a safety zone and increase the size of the zone. The Coast Guard is issuing this temporary rule without prior notice and opportunity to comment on these changes from the NPRM pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a supplemental notice of proposed rulemaking (SNPRM) with respect to this rule because it is impracticable. The filming is scheduled to start on June 17, 2024, and prompt action is needed to respond to the potential safety risks presented by the planned activities.

Under 5 U.S.C. 553(d)(3), the Coast Guard finds that good cause exists for making this rule effective less than 30 days after publication in the Federal Register. The comment period for the NPRM associated with the filming activities ended on June 10, 2024, and the filming is scheduled to begin June 17, 2024. Thus, there is insufficient time to allow for 30 days before the rule becomes effective. Delaying the effective date of this rule would be impracticable because prompt action is needed to respond to the potential safety risks associated with the planned filming.

III. Legal Authority and Need for Rule

The Coast Guard is issuing this rule under its authority granted in 46 U.S.C. 70034. The purpose of this rule is to ensure offshore safety of the film production personnel, sets, and equipment during production activity.

IV. Discussion of Comments, Changes, and the Rule

As noted above, we received one comment on our NPRM published May 9, 2024, which stated that “the Coast Guard should strongly consider whether regulating waterways is an appropriate use of resources.” The Coast Guard is creating this safety zone on Lake Erie, which is a Federally navigable waterway, to ensure the safety of nearby recreational and commercial vessel traffic, as well as the film production activities ashore. Waterways management is a statutory mission of the United States Coast Guard under Congressionally mandated authorities as cited in the below regulatory text.

There are changes in the regulatory text of this rule from the proposed rule in the NPRM:

1. The Security Zone has been redesignated as a Safety Zone.

2. The Safety Zone has been expanded to include certain waters of the Grand River.

3. The Safety Zone enforcement time for June 20 and June 21 has been modified by one hour as outlined below.

This rule establishes a safety zone from 6:30 a.m. through 7:30 p.m. on June 17, 2024, from 6:30 a.m. through 7:30 p.m. on June 18, 2024, from 1:30 p.m. through 2:30 a.m. on June 20, 2024, and from 1:30 p.m. to 2:30 a.m. on June 21, 2024. Rain dates have been identified as June 24-28, 2024. Times of enforcement should these rain dates be necessary will be advertised through Local Notice to Mariners and Broadcast Notice to Mariners. The duration of the zone is intended to ensure safety in Lake Erie offshore from the Mentor Headlands Beach State Park before, during, and after the scheduled film production. No vessel or person will be permitted to enter the safety zone without obtaining permission from the COTP or a designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, location, duration, and time of day of the regulated area. This safety zone would restrict navigation through Lake Erie offshore of the Mentor Headlands Beach State Park and certain waters of the Grand River for 13 hours each day, for four days. 52 hours in all.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section IV.A above, this rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a safety zone offshore of the Mentor Headlands State Park Beach and certain waters of the Grand River lasting 13 hours each day for a total of four days. Normally such actions are categorically excluded from further review under paragraph L60a of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 165

Harbors, Marine safety, Navigation (water), Reporting and recordkeeping requirements, Security measures, Waterways.

For the reasons discussed in the preamble, the Coast Guard is amending 33 CFR part 165 as follows:

PART 165—REGULATED NAVIGATION AREAS AND LIMITED ACCESS AREAS

1. The authority citation for part 165 continues to read as follows:

Authority: 46 U.S.C. 70034, 70051; 70124, 33 CFR 1.05-1, 6.04-1, 6.04-6, and 160.5; Department of Homeland Security Delegation No. 00170.1, Revision No. 01.3.

2. Add § 165.T09-0396 to read as follows:

§ 165.T09-0396 Safety Zone; Mentor Headlands Beach, Mentor, Ohio.

(a) Location. The following area is a safety zone: Mentor, OH. All U.S. waters of Lake Erie out to 500-yards from the shoreline at Mentor Headlands Beach State Park within a rectangle of which the four corners of the polygon are located in the following positions:

(1) 41°45′15.7″ N, 081°17′43.9″ W;

(2) 41°45′27.4″ N, 081°17′57″ W;

(3) 41°46′26.9″ N, 081°16′46.1″ W; and

(4) 41°45′38.8″ N, 081°16′51.2″ W (NAD 83).

(b) Definitions. For the purposes of this section, the following definitions apply:

Official Patrol Vessel means a Coast Guard Patrol Commander, including a Coast Guard coxswain, petty officer, or other officer operating a Coast Guard vessel and a Federal, State, and local law enforcement officer designated by or assisting the Captain of the Port Sector Eastern Great Lakes (COTP) in the enforcement of the regulations in this section.

Rain date means an alternate date and/or time in which the safety zone would be enforced in the event of inclement weather.

Spectator means all persons and vessels not registered with the production company as participants or official patrol vessels.

(c) Regulations. (1) The Coast Guard may patrol the safety zone area described in paragraph (a) of this section under the direction of a designated Coast Guard Patrol Commander. The Patrol Commander may be contacted on Channel 16 VHF-FM (156.8 MHz) by the call sign “PATCOM.”

(2) All persons and vessels not registered with the production company or official patrol vessels are considered spectators. The “official patrol vessels” consist of any Coast Guard, federal, state, or local law enforcement and production company provided vessels designated or assigned by the COTP Sector Eastern Great Lakes, to patrol the safety zone.

(3) Spectator vessels desiring to transit the regulated area may do so only with prior approval of the Patrol Commander and when so directed by that officer and will be operated at a no wake speed in a manner which will not endanger anyone directly involved with the production or any other craft.

(4) No spectator shall anchor, block, loiter, or impede the through transit of official patrol vessels in the regulated area during the effective dates and times, unless cleared for entry by or through an official patrol vessel.

(5) The Patrol Commander may forbid and control the movement of all vessels in the regulated area. When hailed or signaled by an official patrol vessel, a vessel shall come to an immediate stop and comply with the directions given. Failure to do so may result in expulsion from the area, citation for failure to comply, or both.

(6) Any spectator vessel may anchor outside the regulated areas specified in this chapter, but may not anchor in, block, or loiter in a navigable channel.

(7) The Patrol Commander may terminate the filming or the operation of any vessel at any time it is deemed necessary for the protection of lifeand/or property.

(8) The Patrol Commander will terminate enforcement of the special regulations at the conclusion of the event.

(d) Enforcement period. This section will be enforced from 6:30 a.m. through 7:30 p.m. on June 17 and 18, 2024, and from 1:30 p.m. through 2:30 a.m. on June 20 and 21, 2024. Rain dates have been identified as June 24-28, 2024. Times of enforcement should these rain dates be necessary will be advertised through Local Notice to Mariners and Broadcast Notice to Mariners.

Dated: June 18, 2024.
M.I. Kuperman,
Captain, U.S. Coast Guard, Captain of the Port Eastern Great Lakes.

[FR Doc. 2024-13781 Filed 6-20-24; 8:45 am]

BILLING CODE 9110-04-P